DEPARTMENT OF TRANSPORTATION

Federal Transit Administration

Preparation of an Environmental Impact Statement for the Central Avenue Corridor Rapid Transit Project

AGENCY: Federal Transit Administration (FTA), U.S. Department of Transportation (DOT).

ACTION: Notice of intent to prepare an Environmental Impact Statement (EIS).

SUMMARY: The Federal Transit Administration (FTA) and the City of Albuquerque Transit Department intend to prepare an Environmental Impact Statement (EIS) for the Central Avenue Corridor Rapid Transit Project. The proposed project is located within the jurisdictional boundaries of Albuquerque and Bernalillo County, New Mexico. The EIS will evaluate: (1) The no-build alternative; (2) two alignment alternatives; (3) two technology alternatives including light rail transit and bus rapid transit; (4) station and park and ride locations, a maintenance facility, and electrical substations; and (5) a supporting bus system. Other reasonable alternatives that emerge from the scoping process will also be evaluated. Scoping will occur through correspondence and meetings with the general public, other public stakeholders, and federal, state, and local agencies having an interest in the proposed project. The EIS will be prepared in accordance with the National Environmental Policy Act (NEPA) of 1969 and the applicable regulations implementing NEPA as set forth in 23 CFR part 771 and 40 CFR parts 1500-1508.

DATES: One agency and five public scoping meetings will be held for the Central Avenue Corridor Rapid Transit Project. These meetings will be held at various locations within the City of Albuquerque and are scheduled for November 10-13, 2003 and November 17-20, 2003. Details specific to the dates, times, and locations of the scoping meetings will be published in local newspapers and other local media and will be posted on the project Web site at http://www.ABQRTP.com. The deadline for submitting scoping comments is December 5, 2003 (see addresses below). All scoping meetings will be held at locations accessible by persons with disabilities. Please notify the RTP Project Manager at (505) 724-3100 at least one week in advance of the meeting date if language translation or hearing-impaired signing is needed.

ADDRESSES: Written comments will be accepted at the meetings or may be sent to the following address until December 5, 2003: Albuquerque Transit Department, 100 First Street SW., Albuquerque, New Mexico 87102, Attn: Rapid Transit Project. A scoping document may be requested by writing to the above address or by calling (505) 881-5357. Persons or agencies desiring to be placed on the mailing list for the EIS should send their name, mailing address, and e-mail address to the above address.

FOR FURTHER INFORMATION CONTACT: Ms. Pearlie Tiggs, Community Planner, Office of Planning and Program Development, Federal Transit Administration, Region 6, 819 Taylor Street, Room 8A36, Fort Worth, Texas 76102, (817) 978-0567.

SUPPLEMENTARY INFORMATION:

I. Scoping

Scoping comments should focus on identifying specific environmental, cultural, economic, or social impacts to be evaluated by the EIS and project alternatives that better achieve project objectives and/or that have less adverse impact. Comments should be specific with regard to the issues and alternatives to be evaluated and not on the preference for a particular alternative. An opportunity to state a preference for a specific alternative will be provided during the comment period for the draft EIS.

II. Project Need

The need for the proposed project was identified as part of an Alternatives Analysis prepared by the City of Albuquerque in cooperation with FTA. As determined by that effort, the need for the proposed project is to: (1) Provide additional transit capacity within the Central Avenue Corridor; (2) improve mobility to regional employment and activity centers; and (3) facilitate the implementation of adopted growth and development plans and policies for the Albuquerque region. Transit service within the Central Avenue Corridor currently accounts for over 30% of the total transit ridership for the entire Albuquerque Transit System. Traffic congestion in this corridor hinders efficient bus service. According to traffic projections prepared by the Mid-Region Council of Governments, traffic congestion is expected to worsen.

The study corridor encompasses several regional employment centers and activity centers that would be connected by the proposed project. These include the Atrisco Business Park, the Albuquerque Botanical Gardens and Aquarium, Old Town, Downtown, University of New Mexico, Albuquerque Technical-Vocational Institute, and the Albuquerque Uptown District. The proposed project would also provide service to several smaller employment and activity centers including the three regional medical hospital complexes, the Nob Hill and Hiland Districts, and the International Market Center. Collectively, these locations represent the vast majority of major employment and activity centers within the Albuquerque metropolitan area.

The City of Albuquerque has adopted specific land use and development goals and policies that include the proposed project area. The adopted policies include the Centers and Corridor Plan and the Planned Growth Strategy. The Central Avenue corridor is identified as a high transit corridor in both of these plans. In addition, Central Avenue is targeted for development and redevelopment with transit-oriented development. Plans to implement the adopted policies are underway by the City of Albuquerque.

III. Alternatives

The proposed project to be evaluated by the EIS includes the (1) no-build alternative which will assume that no transportation improvements will occur within the corridor beyond those already committed to in the adopted transportation programs; and (2) two alignment alternatives within the Central Avenue Corridor. The approximate length of each build alternative is approximately 11 miles. The first alignment starts in the vicinity of Central Avenue and Unser Boulevard in Albuquerque and proceeds east on Central Avenue to Louisiana Boulevard. At Louisiana Boulevard, the route proceeds northerly to its terminus near Menaul Boulevard in the Albuquerque Uptown District. The second alignment starts in the vicinity of Central Avenue and Unser Boulevard in Albuquerque and proceeds east on Central Avenue to Lomas Boulevard. The route follows Lomas Boulevard east to Louisiana Boulevard. At Louisiana Boulevard, the route proceeds northerly to its terminus near Menaul Boulevard in the Albuquerque Uptown District. The centerline alignment for both routes will fall within or immediately adjacent to the existing street sections. Both light rail transit and bus rapid transit will be evaluated in each alignment alternative. Ten to eleven stations will be evaluated, each spaced at intervals of approximately one mile.

IV. Probable Effects

The EIS will identify and evaluate all probable environmental, economic, social, and cultural effects for each of the project alternatives. Based on the Alternatives Analysis previously prepared for the proposed project, primary issues are likely to include loss of on-street parking and access to businesses, changes to traffic circulation and diversion, changes to land use, proximity effects on historic properties, properties contaminated by hazardous materials, neighborhood effects, and utility relocations. These and other issues (e.g., noise, air quality, drainage, visual effects) will be evaluated by the EIS for both the long-term and construction period. Measures to mitigate significant adverse impacts will be developed as part of the EIS.

V. Public Involvement

A comprehensive public involvement program (PIP) has been developed and will be implemented as part of the Draft EIS. The PIP will include: Agency and public scoping meetings; community-wide public information meetings; public hearings; informational briefings to stakeholder groups, elected officials, and other local and regional officials; and information dissemination via a project website and newsletters. The PIP will also involve a citizens advisory committee and other stakeholder groups to obtain input on issues, concerns, and advise on neighborhood and transit oriented development issues.

VI. FTA Procedures

The EIS will be prepared in accordance with the National Environmental Policy Act (NEPA) of 1969, as amended, and the regulations implementing NEPA set forth in 23 CFR part 771 and 40 CFR parts 1500-1508. Consistent with FTA policy, the NEPA process will also be used to comply with other federal environmental laws, regulations, and executive orders, such as section 106 of the National Historic Preservation Act, the 1990 Clean Air Act Amendments, section 4(f) of the U.S. Department of Transportation Act, the Endangered Species Act, and Executive Orders 11988, 11990 and 12898 on Floodplain Management, Protection of Wetlands, and Environmental Justice, respectively.

In addition, the City of Albuquerque intends to seek Section 5309 New Starts funding for this project and will therefore follow the requirements of 49 CFR part 611 as well as the requirements of NEPA and all other applicable federal and FTA program requirements. The New Starts regulation requires a planning Alternatives Analysis, which will be completed in conjunction with the Draft EIS. The Alternatives Analysis/Draft EIS will lead to a locally-preferred alternative which must be adopted by the Metropolitan Planning Organization into its financially constrained metropolitan transportation plan before preliminary engineering will be authorized by FTA. If authorized, preliminary engineering for the Central Avenue Corridor Rapid Transit Project will be conducted in conjunction with the preparation of the final EIS.

Issued on: October 21, 2003.
Robert Patrick,
Regional Administrator, FTA Region 6.

[FR Doc. 03-27060 Filed 10-24-03; 8:45 am]

BILLING CODE 4910-57-P